DEPARTMENT OF HEALTH AND HUMAN SERVICES

Health Resources and Services Administration

Statement of Organization, Functions and Delegations of Authority

This notice amends Part R of the Statement of Organization Functions and Delegations of Authority of the Department of Health and Human Services (DHHS), Health Resources and Services Administration (HRSA) (60 FR 56605, as amended November 6, 1995 as last amended at 66 FR 52421-29, dated October 15, 2001).

This notice announces the title change only for the Division of Health Careers Development (RPD) in the Bureau of Health Professions (BHPr), the functions remain the same. Make the following change in the title:

Division of Health Careers Diversity and Development (RPD)

Serves as the focal point for the Health Professions and Nursing Student Loan and Scholarship Programs, the Exceptional Financial Need Scholarship Program, the Federal Assistance to Disadvantaged Health Professions Scholarship Program, the Health Educational Assistance Loan Program, the Health Professions and Nursing Educational Loan Repayment and Loan Cancellation Programs by providing leadership to assure equity in access to health resources and health careers for diverse and disadvantaged populations. Specifically: (1) Provides technical assistance to groups that represent and seek to improve the health status of diverse and disadvantaged populations, and facilitates the access of such groups to Bureau and other Federal programs and resources; (2) provides leadership and direction for the development and implementation of Bureau objectives as they relate to diverse and disadvantaged populations; (3) develops and recommends health resources and health career opportunities for diverse and disadvantaged populations; (4) initiates, stimulates, supports, coordinates, and evaluates Bureau programs for improving the availability and accessibility of health careers for diverse and disadvantaged populations; (5) initiates, stimulates, supports, coordinates, and evaluates in conjunction with other Bureau units, comprehensive data systems and analyses on requirements, resources, accessibility, and accountability of the health delivery system for diverse and disadvantaged populations; (6) conducts special studies and collects baseline data to identify specific factors contributing to the health and health-related problems of diverse and disadvantaged populations, and to develop strategies for improving health services and career opportunities for diverse and disadvantaged populations; (7) conducts extramural programs, including the use of grants and contracts, specifically designed to promote equity in access to health careers; (8) assures contract compliance and implementation of the Policy Statement on Civil Rights in the Bureau; (9) in coordination with the Bureau's divisions and in collaboration with other HRSA entities, provides leadership for and assures implementation of Presidential, Departmental, and other special initiatives addressing the needs of diverse and disadvantaged populations; (10) conducts and coordinates Bureau programs in health careers for women; (11) provides leadership to develop and coordinate Bureau program support to student health organizations; (12) provides advice and consultation on policy and other matters related to assuring equity in access to health resources and health careers for diverse and disadvantaged populations; (13) plans, develops, implements and promotes special initiatives and projects; (14) coordinates all necessary Federal, state and/or private sector involvement to insure the success of the initiative; (15) takes appropriate steps to institutionalize initiatives which successfully promote the mission of the Bureau; (16) directs and administers the Health Professions and Nursing Student Loan and Scholarship Programs, the Exceptional Financial Need Scholarship Program, the Federal Assistance to Disadvantaged Health Professions Scholarship Program, the Health Educational Assistance Loan Program, the Health Professions and Nursing Educational Loan Repayment and Loan Cancellation Programs including the awarding of loan and scholarship funds; (17) develops and implements program plans and policies and operating and evaluation plans and procedures in coordination with the Office of Policy and Planning; (18) monitors and assesses educational and financial institutions with respect to capabilities and management of Federal support for students; (19) develops and conducts training activities for staff of educational and financial institutions; (20) maintains liaison with and provides assistance to program-related public and private professional organizations and institutions; (21) maintains liaison with the Office of the General Counsel, and the Office of the Inspector General, DHHS, components of the Department of Education and the Department of Defense, and State agencies concerning student assistance; (22) coordinates financial aspects of programs with educational institutions; and (23) develops program data needs, formats, and reporting requirements, including collection, collation, analysis and dissemination of data.

Section RA-30 Delegation of Authority

All delegations of authority which were in effect immediately prior to the effective date hereof have been continued in effect in them or their successors pending further redelegation. I hereby ratify and affirm all actions taken by any DHHS official which involved the exercise of these authorities prior to the effective date of this delegation.

This reorganization is effective upon the date of signature.

Dated: October 30, 2001.
Elizabeth M. Duke,
Acting Administrator.

[FR Doc. 01-27899 Filed 11-6-01; 8:45 am]

BILLING CODE 4165-15-P